FEDERAL HOUSING FINANCE AGENCY

12 CFR Part 1248

RIN 2590-AA94

Uniform Mortgage-Backed Security; Correction

AGENCY: Federal Housing Finance Agency.

ACTION: Final rule; correction.

SUMMARY: The Federal Housing Finance Agency (FHFA) is issuing this document to correct the preamble of the final rule that was published in the Federal Register on March 5, 2019, entitled “Uniform Mortgage-Backed Security.” In that preamble, FHFA incorrectly stated that data on servicer performance is included in quarterly Prepayment Monitoring Reports (PMRs).

DATES: Effective June 18, 2019.

FOR FURTHER INFORMATION CONTACT: Robert Fishman, Deputy Director, Division of Conservatorship, (202) 649-3527, Robert.Fishman@fhfa.gov, or James P. Jordan, Associate General Counsel, Office of General Counsel, (202) 649-3075, James.Jordan@fhfa.gov. These are not toll-free numbers.

SUPPLEMENTARY INFORMATION:

Correction

In the preamble to the final rule published on March 5, 2019 (84 FR 7793) FHFA stated that data on servicer performance is included in quarterly PMRs. Actually, data on servicer performance is not included in quarterly PRMs.

In FR Doc. 2019-03934 appearing on page 7793 in the Federal Register of Tuesday, March 5, 2019, make the following correction in the SUPPLEMENTARY INFORMATION section. On page 7798, in the left column, on lines 7 through 11, correct the sentence “FHFA currently receives and monitors data that include information on servicer performance, and publishes that information in quarterly PMRs” to read “FHFA currently receives and monitors data that include information on servicer performance.”

Dated: June 11, 2019.
Mark A. Calabria,
Director, Federal Housing Finance Agency.

[FR Doc. 2019-12880 Filed 6-17-19; 8:45 am]

BILLING CODE 8070-01-P